DEPARTMENT OF HEALTH AND HUMAN SERVICES

National Toxicology Program (NTP); Center for the Evaluation of Risks to Human Reproduction (CERHR); Announcement of the Soy Formula Expert Panel Meeting: Amended Notice

AGENCY: National Institute of Environmental Health Sciences (NIEHS), National Institutes of Health (NIH).

ACTION: Availability of telephone conferencing and extension of registration period.

SUMMARY: The CERHR announces the availability of a teleconference line to allow presentation of oral comments at the expert panel meeting on December 16-18, 2009, at the Hilton Alexandria Old Town, 1767 King Street, Alexandria, VA. Information regarding the soy formula expert panel meeting was announced in the Federal Register (74 FR 53508) published on October 19, 2009, and is available on the CERHR Web site (http://cerhr.niehs.nih.gov). The guidelines and deadlines published in this Federal Register notice still apply, except that the deadline for registering to attend or to present oral comments by telephone is now December 11, 2009.

DATES: The expert panel meeting for soy formula will be held on December 16-18, 2009, and convene each day at 8:30 a.m. EST. Persons wishing to attend are asked to register by December 11, 2009, via the CERHR Web site (http://cerhr.niehs.nih.gov). Time is set-aside at the expert panel meeting on December 16, 2009, for oral public comments. Individuals wishing to make oral public comments are asked to register online (http://cerhr.niehs.nih.gov) or contact Dr. Kristina A. Thayer, CERHR Acting Director, by December 11, 2009, and if possible, send a copy of the statement at that time.

ADDRESSES: The meeting will be held at the Hilton Alexandria Old Town, 1767 King Street, Alexandria, VA. Access to on-line registration to either attend the meeting in person or participate by teleconference line is available on the CERHR Web site (http://cerhr.niehs.nih.gov). Public comments and any other correspondence should be submitted to Dr. Kristina A. Thayer, CERHR Acting Director, NIEHS, P.O. Box 12233, Mail Drop K2-04, Research Triangle Park, NC 27709 (mail), 919-541-5021 (telephone), or thayer@niehs.nih.gov (e-mail). Courier address: NIEHS, 530 Davis Drive, Room K2154, Morrisville, NC 27560.

FOR FURTHER INFORMATION CONTACT: Dr. Kristina A. Thayer (telephone: 919-541-5021 or e-mail: thayer@niehs.nih.gov).

SUPPLEMENTARY INFORMATION:

Teleconferencing

To allow greater public participation at the soy formula expert panel meeting, the NTP will provide a teleconference line to access the public comment session of the meeting. The NTP has reserved a limited number of telephone lines for this call and access availability will be on a first-come, first-served basis. Individuals interested in participating in the meeting by teleconference line must register by December 11, 2009. Those registering to present oral comments by telephone will be provided the access number prior to the meeting. The formal public comment period is scheduled for December 16, 2009, at approximately 9 a.m. until 10 a.m. EST. Oral public comments should not exceed 7 minutes in length and each organization is allowed only one comment slot (in person or by telephone). Every effort will be made to accommodate the public, but the total time allotted for oral comments and the time allotted per speaker by telephone will depend on the number of people who register online to speak. In addition, teleconference participants are encouraged to send a copy of their oral statement or talking points, which can supplement and/or expand the oral presentation, for distribution at the meeting and for the meeting record.

Dated: December 1, 2009.
John R. Bucher,
Associate Director, National Toxicology Program.

[FR Doc. E9-29249 Filed 12-7-09; 8:45 am]

BILLING CODE 4140-01-P